DEPARTMENT OF COMMERCE

Foreign-Trade Zones Board

[Order No. 1142]

Approval for Expanded Manufacturing Authority (Automotive Lighting Products) Foreign-Trade Subzone 146A, North American Lighting, Inc., Flora and Salem, Illinois

Pursuant to its authority under the Foreign-Trade Zones Act of June 18, 1934, as amended (19 U.S.C. 81a-81u), the Foreign-Trade Zones Board (the Board) adopts the following Order:

Whereas, the Bi-State Authority, grantee of Foreign-Trade Zone 146 (Lawrence County, Illinois), has requested authority on behalf of North American Lighting, Inc. (NAL), operator of FTZ 146A, at the NAL automotive lighting products manufacturing facilities in Flora and Salem, Illinois, to expand the scope of FTZ authority to include new manufacturing capacity under FTZ procedures and requesting authority to expand the boundaries of Subzone 146A (FTZ Doc. 22-2000, filed 5-30-2000);

Whereas, notice inviting public comment was given in the Federal Register (65 FR 35603, 6-5-00);

Whereas, the Board adopts the findings and recommendations of the examiner's report, and finds that the requirements of the FTZ Act and the Board's regulations are satisfied, and that approval of the application is in the public interest;

Now therefore, the Board hereby approves the request, subject to the FTZ Act and the Board's regulations, including Section 400.28.

Signed at Washington, DC, this 17th day of January 2001.
Troy H. Cribb,
Assistant Secretary of Commerce for Import Administration, Alternate Chairman, Foreign-Trade Zones Board.

Attest:

Dennis Puccinelli,
Executive Secretary.

[FR Doc. 01-2532 Filed 1-29-01; 8:45 am]

BILLING CODE 3510-DS-P